DEPARTMENT OF COMMERCE

Foreign-Trade Zones Board

(Docket 30-2006)

Application for Proposed Foreign-Trade Zone, Counties of Northampton and Lehigh, Pennsylvania, Correction

The Federal Register notice (71 FR 42800, 7/28/06), describing the application by the Lehigh Valley Economic Development Corporation, to establish a general-purpose foreign-trade zone at sites in Lehigh and Northampton Counties, Pennsylvania, is corrected as follows:

The Customs and Border Protection (CBP) port of entry is the Lehigh Valley CBP port of entry, which includes the former user-fee airport of Allentown-Bethlehem-Easton Airport. The proposed sites are within the CBP port of entry. The CBP service port of entry is Philadelphia.

Dated: September 25, 2006.
Pierre V. Duy,
Acting Executive Secretary.

[FR Doc. E6-16523 Filed 10-5-06; 8:45 am]

BILLING CODE 3510-DS-S